FEDERAL COMMUNICATIONS COMMISSION

Notice of Public Information Collection(s) Being Submitted to the Office of Management and Budget, Comment Requested

November 6, 2007.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before January 14, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via Internet at Nicholas_A._Fraser@omb.eop.gov and to Judith-B.Herman@fcc.gov, Federal Communications Commission, Room 1-B441, 445 12th Street, SW., Washington, DC 20554 or an e-mail to PRA@fcc.gov. If you would like to obtain or view a copy of this information collection after the 60-day comment period, you may do so by visiting the OMB's ROCIS site at: http://www.reginfo.gov/public/do/PRAMain.

FOR FURTHER INFORMATION CONTACT: For additional information or copies of the information collection(s), contact Judith B. Herman at 202-418-0214 or via the Internet at Judith-B.Herman@fcc.gov.

SUPPLEMENTARY INFORMATION: OMB Control Number: 3060-0686.

Title: Streamlining the International Section 214 Authorization Process and Tariff Requirements.

Form No.: N/A.

Type of Review: Revision of a currently approved collection.

Respondents: Business or other for-profit.

Number of Respondents: 3,563 respondents; 3,563 responses.

Estimated Time Per Response: 561 hours (average).

Frequency of Response: On occasion, annual and quarterly reporting requirements, recordkeeping requirement and third party disclosure requirement.

Obligation to Respond: Required to obtain or retain benefits.

Total Annual Burden: 147,753 hours.

Total Annual Cost: $16,162,000.

Privacy Act Impact Assessment: N/A.

Nature and Extent of Confidentiality: There is no need for confidentiality.

Needs and Uses: The Commission will submit this revision to the OMB after this 60-day comment period to obtain the full three-year clearance from them.

The Commission released a Report and Order on June 22, 2007 in IB Docket No. 04-47, FCC 07-118. Among other requirements, international carriers must notify the Commission at the same time that they notify affected customers of the discontinuance of international service. The Commission reduced the time period for such notification(s) from 60 to 30 days.

If the collections were not conducted or were conducted less frequently, applicants would not obtain the authorizations necessary to provide telecommunications services, and the Commission will be unable to carry out its mandate under the Communications Act of 1934 and the Cable Landing License Act. Furthermore, the Commission would not be able to ensure that applicants and current licensees comply with the Coastal Zone Management Act of 1972 (CZMA) statute. Additionally, without the information collections, the United States would jeopardize its ability to fulfill the U.S. obligations as negotiated under the World Trading Organization (WTO) Basic Telecom Agreement because these collections are imperative to detecting and deterring anticompetitive conduct. They are also necessary to preserve the Executive Branch agencies' and the Commission's ability to review foreign investments for national security, law enforcement, foreign policy, and trade concerns.

OMB Control Number: 3060-0944.

Title: Review of Commission Consideration of Applications Under the Cable Landing License Act.

Form No.: N/A.

Type of Review: Revision of a currently approved collection.

Respondents: Business or other for-profit.

Number of Respondents: 211 respondents; 211 responses.

Estimated Time Per Response: 7 hours (average).

Frequency of Response: On occasion reporting requirement and third party disclosure requirement.

Obligation to Respond: Required to obtain or retain benefits.

Total Annual Burden: 1,056 hours.

Total Annual Cost: $407,600.

Privacy Act Impact Assessment: N/A.

Nature and Extent of Confidentiality: There is no need for confidentiality.

Needs and Uses: The Commission will submit this revision to the OMB after this 60-day comment period to obtain the full three-year clearance from them. The Commission released a Report and Order on June 22, 2007 in IB Docket No. 04-47, FCC 07-118.

Among other requirements, cable landing applicants and current licensees must comply with an environmental statute, Coastal Zone Management Act of 1972 (CZMA). The statute authorizes states to develop coastal management programs, subject to Federal approval by the U.S. Department of Commerce's National Oceanic and Atmospheric Administration (NOAA). Specifically, they must furnish a certification to the Commission and applicable state(s) that the proposed activity complies with the enforceable policies of the state's approved program and such activity will be conducted in a manner consistent with the program.

If the collection of information is not conducted or is conducted less frequently, applicants will not obtain the authorizations necessary to provide telecommunications services, and the Commission will be unable to carry out its mandate under the Cable Landing License Act and Executive Order 10530. Furthermore, the Commission would not be able to ensure that applicants and current licensees comply with the Coastal Zone Management Act of 1972 (CZMA) statute. In addition, without this collection of information, the United States would jeopardize its ability to fulfill the U.S. obligations as negotiated under the World Trade Organization (WTO) Basic Telecom Agreement because these information collection requirements are imperative to detecting and deterring anticompetitive conduct. They are also necessary to preserve the Executive Branch agencies and the Commission's ability to review foreign investments for national security, law enforcement, foreign policy and trade concerns.

Federal Communications Commission.
Marlene H. Dortch,
Secretary.

[FR Doc. E7-22122 Filed 11-9-07; 8:45 am]

BILLING CODE 6712-01-P